DEPARTMENT OF LABOR

Employment and Training Administration

[TA-W-38,507]

Dresser-Wayne Division (Halliburton) Salisbury, MD; Notice of Negative Determination Regarding Application for Reconsideration

By Application of February 8, 2001, the International Union, United Automobile, Aerospace & Agricultural Implement Workers of America (UAW), Local 354, request administrative reconsideration of the Department's negative determination regarding eligibility for workers and former workers of the subject firm to apply for Trade Adjustment Assistance (TAA). The denial notice was signed on January 17, 2001, and published in the Federal Register on February 8, 2001 (66 FR 9599).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers producing retail fuel dispensers at Dresser-Wayne Division (Halliburton) in Salisbury, Maryland, was denied because the group eligibility requirement of Section 222(2) of the Trade Act of 1974, as amended, was not met. Sales and production of articles produced at the plant increased from 1999 to 2000.

The petitioner provided a copy of an e-mail from a company official at Dresser-Wayne to the President of UAW, Local 354, indicating that jobs were lost at the plant because some of the work at the subject firm plant was being sent to Brazil.

The transfer of work, or shift of production, is not a basis for worker group certification under the worker adjustment assistance provisions of Section 222 of the Trade Act of 1974.

Conclusion

After review of the application and investigative findings, I conclude that there has been no error or misinterpretation of the law or of the facts which would justify reconsideration of the Department of Labor's prior decisions. Accordingly, the application is denied.

Signed at Washington, DC, this 30th day of April, 2001.
Linda G. Poole,
Certifying Officer, Division of Trade Adjustment Assistance.

[FR Doc. 01-12565 Filed 5-17-01; 8:45 am]

BILLING CODE 4510-30-M